SECURITIES AND EXCHANGE COMMISSION

Issuer Delisting; Notice of Application To Withdraw From Listing and Registration on the Boston Stock Exchange, Inc. (Implant Sciences Corporation, Common Stock, $.10 par value, and Warrants, no par value ) File No. 1-15087

July 19, 2002.

Implant Sciences Corporation, a Massachusetts corporation (“Issuer”), has filed an application with the Securities and Exchange Commission (“Commission”), pursuant to section 12(d) of the Securities Exchange Act of 1934 (“Act”) ¹ and Rule 12d2-2(d) thereunder,² to withdraw its Common Stock, $.10 par value, and Warrants, no par value (“Securities”), from listing and registration on the Boston Stock Exchange, Inc. (“BSE” or “Exchange”).

¹ 15 U.S.C. 78l(d).

² 17 CFR 240.12d2-2(d).

The Issuer stated in its application that it has complied with the Rules of the BSE that govern the removal of securities from listing and registration on the Exchange. In making the decision to withdraw the Securities from listing and registration on the BSE, the Issuer considered the relative liquidity provided by the BSE versus other securities exchanges and the direct and indirect cost associated with maintaining multiple listings. The Issuer stated in its application that the Securities have been trading on the American Stock Exchange LLC (“Amex”) since May 8, 1999. The Issuer represented that it will maintain its listing on the Amex.

The Issuer's application relates solely to the Securities' withdrawal from listing on the BSE and shall not affect its listing on the Amex or its obligation to be registered under section 12(b) of the Act ³.

³ 15 U.S.C. 78l(b).

Any interested person may, on or before August 12, 2002, submit by letter to the Secretary of the Securities and Exchange Commission, 450 Fifth Street, NW, Washington, DC 20549-0609, facts bearing upon whether the application has been made in accordance with the rules of the BSE and what terms, if any, should be imposed by the Commission for the protection of investors. The Commission, based on the information submitted to it, will issue an order granting the application after the date mentioned above, unless the Commission determines to order a hearing on the matter.

For the Commission, by the Division of Market Regulation, pursuant to delegated authority.⁴
⁴ 17 CFR 200.30-3(a)(1).
Jonathan G. Katz,
Secretary.

[FR Doc. 02-18928 Filed 7-25-02; 8:45 am]

BILLING CODE 8010-01-P